DEPARTMENT OF AGRICULTURE

Forest Service

Black Hills National Forest; South Dakota and Wyoming; Inyan Kara and Jewel Cave Mineral Withdrawal

AGENCY: Forest Service, USDA.

ACTION: Notice of public meeting.

SUMMARY: The Black Hills National Forest proposes to recommend withdrawal of two areas of National Forest System lands from mineral entry. The proposed action would recommend the withdrawal of these lands from mineral exploration and development under the General Mining Law of 1872, as amended.

DATES: A public meeting will be held to explain the project and take public comment. The meeting will be held at the Black Hills National Forest Supervisor's Office on April 26, 2005, at 7 p.m. m.d.t.

ADDRESSES: The Supervisor's Office is located at 25041 North Highway 16, Custer, South Dakota.

FOR FURTHER INFORMATION CONTACT: For further information, mail correspondence to Alice Allen, Project Leader, Black Hills National Forest, 330 Mt. Rushmore Rd., Custer, South Dakota 57730; or, at aaallen@fs.fed.us.

Purpose and Need for Action

This action is needed to protect unique resource values (FSM 2761.03 (1)), i.e., cave resources and prehistoric and historic cultural properties from disturbance and adverse effects associated with mineral extraction. Currently the Forest has no authority to deny mining projects in these areas. This proposal is consistent with direction in the Black Hills National Forest Revised Forest Plan to pursue mineral withdrawals where appropriate (Standard 1509).

Proposed Action

The Black Hills National Forest proposes to recommend withdrawal of two areas of National Forest system lands from mineral entry. The first area contains lands (~4,696 acres) adjacent to Jewel Cave National Monument in South Dakota. The Jewel Cave withdrawal area is located about 10 miles west of Custer, SD on the Hell Canyon Ranger District, Black Hills National Forest, South Dakota. The second area is a disjunct section of NFS lands (~1,278 acres) in the vicinity of Inyan Kara Mountain, Wyoming. The Inyan Kara withdrawal area is located about 12 miles south of Sundance, WY on the Bearlodge Ranger District, Black Hills National Forest, Wyoming.

Possible Alternatives

In addition to the proposed action, the Forest Service also evaluated two alternatives:

No Action Alternative—This alternative is required as a comparison to the action alternatives. Under the No Action alternative, the existing withdrawal at Jewel Cave would remain in effect. No additional area would be withdrawn. No withdrawal would take place at Inyan Kara. Mining activities could occur at either site.

Alternative 3—Under this alternative, only about 1,064 acres would be withdrawn near Jewel Cave. This alternative addresses public concerns that the withdrawal area under the Proposed Action is larger than necessary to protect the cave resources and would adversely affect mining opportunities. Fewer acres would be withdrawn allowing greater potential for mineral development. Under Alternative 3 the Inyan Kara withdrawal area would remain the same as the Proposed Action. All of Inyan Kara is considered sacred by Native Americans. Reducing the acreage of the proposed withdrawal would not meet the purpose of protecting cultural, historic, and prehistoric resources at the site.

Lead and Cooperating Agencies

The USDA Forest Service is the lead agency for this action. The USDI Bureau of Land Management and USDI National Park Service are cooperating agencies.

Responsible Official

The Forest Service official who will make the recommendation to the BLM on this withdrawal proposal is the Rocky Mountain Regional Forester. The Responsible Officials for any USDI-BLM decision to withdraw lands from mineral entry are as follows. For the Jewel Cave withdrawal, the responsible Official is the Montana State Director, USDI Bureau of Land Management, Billings, MT. For the Inyan Kara withdrawal, the responsible Official is the Wyoming State Director, USDI Bureau of Land Management, Cheyenne, WY.

Nature of Decision To Be Made

The USDI Bureau of Land Management is a cooperating agency and is responsible for the final decision regarding this mineral withdrawal. Mineral withdrawals fall under the administrative responsibilities of the USDI Bureau of Land Management (43 CFR 2310.1). Section 104 of the Federal Land Policy and Management Act of 1976 gives the Secretary of the Interior general authority to make, modify, extend, or revoke most withdrawals on public or reserved Federal lands. The Forest Service must apply to the Secretary of the Interior for withdrawal actions on National Forest System lands (FSM 2761.01). The Forest Service initiates an application with the BLM for a mineral withdrawal. The BLM publishes notice of an application and withdrawal proposal in the Federal Register. The Forest Service then completes an environmental assessment (EA) and supporting specialist reports to meet the requirements of the National Environmental Policy Act (1969).

This EA is not a decision document. Based upon the effects of the alternatives, the Recommending FS official will recommend to the BLM an alternative to limit disturbance to protect the cave and archeological resources and provide supporting rationale. The Director of the BLM makes the final decision on the proposed withdrawal and publishes notice of the decision in the Federal Register. Thus, the Forest Service recommendation is not appealable (36 CFR 215.12(h)). The Recommending Forest Service official in this case will be the Rocky Mountain Regional Forester (FSM 2761.04).

The BLM Responsible Officials will decide (1) if mineral withdrawals are necessary to protect the significant resources located at Jewel Cave and at Inyan Kara, and (2) if so, what the appropriate size of those withdrawals should be.

Scoping Process

The proposal was listed in the Schedule of Proposed Actions on October 2004. The proposal was provided to the public and other agencies for comment during scoping November 3 through December 5, 2004. In addition, as part of the public involvement process, the agency provided maps and information on the Black Hills National Forest Web site (http://www.fs.fed.us/r2/blackhills).

Preliminary Issues

The Forest Service identified one topic raised during scoping. This issue is: The size of the withdrawals is too large and will have adverse effects on mining opportunities.

Dated: March 17, 2005.
Dorothy FireCloud,
Acting Deputy Forest Supervisor.

[FR Doc. 05-5704 Filed 3-22-05; 8:45 am]

BILLING CODE 3410-11-P